DEPARTMENT OF ENERGY

Bonneville Power Administration

Kangley-Echo Lake Transmission Line Project

AGENCY: Bonneville Power Administration (BPA), Department of Energy (DOE).

ACTION: Notice of intent to prepare a Supplemental Draft Environmental Impact Statement (EIS) and notice of floodplain and wetlands involvement.

SUMMARY: This notice announces BPA's intention to prepare a Supplemental Draft EIS on the construction, operation, and maintenance of a 500-kilovolt (kV) transmission line in King and Kittitas Counties, State of Washington. Cooperating agencies are Mt. Baker-Snoqualmie and Wenatchee National Forests, U.S. Department of Agriculture. The Supplemental Draft EIS will include analysis of additional alternatives recommended in comments received on the Draft EIS. A floodplain and wetlands assessment will be performed and a floodplain statement of findings will be included in the Supplemental Draft EIS, in accordance with the National Environmental Policy Act (NEPA).

DATES: Written comments on the NEPA scoping process are due to the address below no later than June 19, 2002. Comments may also be made at public meetings to be held on June 5, 6, 8, and 13, 2002, at the times and addresses below.

ADDRESSES: Send letters with comments and suggestions on the proposed scope of the Supplemental Draft EIS to Communications, Bonneville Power Administration—KC-7, P.O. Box 12999, Portland, Oregon, 97212. You may also give your comments by calling (360) 418-8445, or toll-free 1-800-282-3713. Comments may also be sent to the BPA Internet address: comment@bpa.gov. To be placed on the project mail list, call 1-800-622-4520. In all communications, please specify the Kangley-Echo Lake Project.

Comments may also be made at public meetings to be held on Wednesday, June 5, 2002, 4-8 p.m., at Seattle Center, 305 Harrison Street, Seattle, Washington; Thursday, June 6, 2002, 4-8 p.m., at Mt. Si Senior Center, 411 Main Avenue South, North Bend, Washington; Saturday, June 8, 2002, 11 a.m.-3 p.m., at Black Diamond Community Center, 31605 3rd Avenue (State Route 169), Black Diamond, Washington; and Thursday, June 13, 2002, 4-8 p.m., at Maple Valley Community Center, 22010 SE 248th Street, Maple Valley, Washington. The weekday meetings will have an open house format from 4-6 p.m. with opportunities to provide more formal comments from 6-8 p.m. The Saturday meeting will have the same format, with an open house from 11 a.m.-1 p.m. and a more formal comment period from 1-3 p.m.

FOR FURTHER INFORMATION, CONTACT: Lou Driessen, Project Manager, Bonneville Power Administration—TNP/TPP-3, P.O. Box 3621, Portland, Oregon, 97208-3621; direct telephone (360) 619-6327; toll-free telephone 1-800-282-3713; or e-mail lcdriessen@bpa.gov. You may also contact Gene Lynard, Environmental Project Manager, Bonneville Power Administration—KEC-4, P.O. Box 3621, Portland, Oregon, 97208-3621; direct telephone (503) 230-3790; toll-free telephone 1-800-282-3713; fax number (503) 230-5699; or e-mail: gplynard@bpa.gov.

SUPPLEMENTARY INFORMATION: The construction, operation, and maintenance of a 500-kV transmission line in King and Kittitas Counties, Washington, is necessary to maintain reliable electrical service during severe winter conditions in the growing northwest Washington area. The intended effect on the public is to maintain a reliable high-voltage transmission system for Seattle area utilities and avoid an increasing risk of partial blackouts in the Puget Sound area during winter weather events that create a high demand for energy. The action would also enhance BPA's ability to provide firm energy to Canada to meet the requirements of the Columbia River Treaty of 1961. BPA proposes to construct the 500-kV transmission line in 2003-04 to meet these purposes.

This action may involve floodplain and wetlands. In accordance with DOE regulations for compliance with floodplain and wetlands environmental review requirements, BPA will prepare a floodplain and wetlands assessment and will perform this proposed action in a manner so as to avoid or minimize potential harm to or within the affected floodplain and wetlands. The assessment and a floodplain statement of findings will be included in the Supplemental Draft EIS and Final EIS being prepared for the proposed project in accordance with NEPA.

Alternatives Proposed for Consideration

In response to comments received on the Draft EIS, BPA identified four additional alternatives for location and configuration of a transmission line outside the Cedar River Municipal Watershed that would meet the intended purpose of the transmission line. Two of the alternatives to be considered cross land managed by the U. S. Forest Service north and east of the Cedar River Municipal Watershed, a large natural area in the Cascade Mountains used by the City of Seattle to collect drinking water for about 1.3 million people in King and Snohomish Counties. The added alternatives are described below.

Alternative A

Rebuild BPA's existing Covington to Maple Valley 230-kV transmission line to a double-circuit 500-kV line. New transmission towers would be about 175 feet tall. The new 500-kV line would be constructed on existing right-of-way. Each end of the new line would be connected to existing unused 500-kV circuits such that the new line would be connected to BPA's Raver and Echo Lake substations. The northern vacant circuit would need to be connected to Echo Lake Substation with a short line on BPA property.

Alternative B

Rebuild 30 miles of BPA's existing Rocky Reach to Maple Valley 345-kV transmission line to a double-circuit 500-kV line. The new towers would be about 175 feet tall. The new 500-kV line would be connected to the existing Schultz-Raver No. 2 500-kV transmission line just east of Stampede Pass and to Echo Lake Substation at the west end. The line would cross Interstate 90 (I-90) twice. Almost all of this route would be on existing right-of-way.

Alternative C

Construct a new single-circuit 500-kV line from near the community of Kangley, Washington, or from BPA's Raver Substation on mostly new 150-foot-wide right-of-way. New towers would be about 135 feet tall. The new line could pass through the Ravensdale and Hobart areas and would be connected to an existing vacant (unused) Echo Lake to Maple Valley 500-kV circuit. The vacant circuit would then need to be connected to a new bay in the Echo Lake Substation. This option would require the purchase of new right-of-way.

Alternative D

Construct a new single-circuit 500-kV transmission line from east of Stampede Pass to Echo Lake Substation. The new line would be adjacent to the existing Rocky Reach to Maple Valley 345-kV line. New towers would be about 135 feet tall. The line would cross I-90 twice. A new 150-foot-wide right-of-way would need to be acquired.

Public Participation and Identification of Environmental Issues

BPA has established a 30-day scoping period. Potentially affected landowners, concerned citizens, special interest groups, local governments, and any other interested parties are invited to comment on the scope of the proposed Supplemental Draft EIS. Scoping will help BPA ensure that a full range of issues related to this proposal is addressed in the Supplemental Draft EIS, and also will identify significant or potentially significant impacts that may result from the proposed project. When completed, the Supplemental Draft EIS will be circulated for review and comment, and BPA will hold public comment meetings for the Supplemental Draft EIS. BPA will consider and respond in the Final EIS to comments received on the Draft EIS and Supplemental Draft EIS.

Maps and further information are available from BPA at the address above.

Issued in Portland, Oregon, on May 7, 2002.
Stephen J. Wright,
Administrator and Chief Executive Officer.

[FR Doc. 02-12251 Filed 5-15-02; 8:45 am]

BILLING CODE 6450-01-P